DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 30, 2014.

Address Comments To: Record Center, Pipeline and Hazardous Materials Safety Administration, U.S. Department of Transportation, Washington, DC 20590.

Comments should refer to the application number and be submitted in triplicate. If confirmation of receipt of comments is desired include a self-addressed stamped postcard showing the special permit number.

FOR FURTHER INFORMATION CONTACT: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on March 19, 2014.
Donald Burger,
Chief, General Approvals and Permits.

Application No. | Docket No. | Applicant | Regulation(s) affected | Nature of special permits thereof
NEW SPECIAL PERMITS
16086-N |  | Alliant Techsystems Inc., Elkton, MD | 49 CFR 173.51, 173.56(b) 173.61 and 173.63 | To authorize the transportation in commerce of samples of a Division 1.3 material as Limited Quantity when transported to a destruction facility. (modes 1, 3).
16088-N |  | Golden Eagle Outfitters Inc., Delta Jct, AK | 49 CFR 49 CFR 172.101 Column (8C), 173.241, 173.242, 175.310 | To authorize the transportation in commerce of certain flammable and combustible liquids in alternative packaging having a capacity of 119 gallons or more by air. (mode 4).
16091-N |  | Four Turkeys LLC, De Witt, NE | 49 CFR § 177.834(h) and § 178.700(c)(1) | To authorize the manufacture, mark and sale of 50 gallon to 105 gallon refueling tanks as intermediate bulk containers a system for use in transporting various Class 3 hazardous materials. (mode 1).
16092-N |  | Swift River Air, LLC, Anchorage, AK | 49 CFR 49 CFR 172.101 Column (8C), 173.241, 173.242, 175.310 | To authorize the transportation in commerce of certain flammable and combustible liquids in alternative packaging having a capacity of 119 gallons or more by air. (mode 4).
16094-N |  | U.S. Department of Defense (DOD), Scott AFB, IL | 49 CFR § 171.22(e) and 173.62 | To authorize the transportation in commerce of certain Class 1 materials in alternative packaging that are forbidden for transport by cargo air. (modes 1, 2, 3, 4).
16095-N |  | Clay & Bailey Manufacturing Company, Kansas City, MO | 49 CFR 178.345-1 | To authorize the manufacture, mark, sale and use of manways constructed from Ultra High Molecular Weight Pole Ethylene for use on cargo tank motor vehicles in transporting certain hazardous materials. (mode 1).
16098-N |  | EQ Industrial Services, Inc., Wayne, MI | 49 CFR 173.56 | To authorize the transportation in commerce of an estimated 2,2000,000 pounds of extracted aluminum material from the Explo Systems Inc. Site located on the Camp Minden, Louisiana National Guard Grounds in Minden, LA. (mode 1).
16099-N |  | EQ Industrial Services, Inc., Wayne, MI | 49 CFR 173.56 | To authorize the transportation in commerce of an estimated 5,425 pounds of Tritonal Powder from the Explo Systems Inc. Site located on the Camp Minden, Louisiana National Guard Grounds in Minden, LA. (mode 1).
16100-N |  | EQ Industrial Services, Inc., Wayne, MI | 49 CFR 173.56 | To authorize the transportation in commerce of an estimated 130,330 pounds of Tritonal with Wax/Tar Debris from the Explo Systems Inc. Site located on the Camp Minden, Louisiana National Guard Grounds in Minden, LA without an EX classification approval. (mode 1).
16101-N |  | EQ Industrial Services, Inc., Wayne, MI | 49 CFR 49 CFR 173.56 | To authorize the transportation in commerce of an estimated 3,300 pounds of Tritonal with miscellaneous Debris from the Explo Systems Inc. Site located on the Camp Minden, Louisiana National Guard Grounds in Minden, LA. (mode 1).
16102-N |  | Brenntag Mid-South, Inc., Henderson, KY | 49 CFR 173.3(e)(2) | To authorize the transportation in commerce of a DOT 106A500 multi-unit tank car tank containing chlorine or sulfik dioxide that has developed a leak in the valve or fusible plug that has been temporarily repaired using a Chlorine Institute “B” Kit, Edition 11. (mode 1).
16103-N |  | Insituform Technologies, LLC, Chesterfield, MO | 49 CFR 173.203 and 173.242 | To authorize the transportation in commerce of resin-impregnated, coated polyester felt tubing used as a means of restoring structural integrity to aging or damaged wastewater, potable water and industrial pipelines through use of a trenchless, cured-in-place pipe (“CIPP”) technology. (mode 1).
16106-N |  | New England Primate Research Center, Southborough, MA | 49 CFR 173.199(a)(1) | To authorize the one-time one-way transportation in commerce of lice, non-human primates (NHPs) infected with Division 6.2 (infectious substance) materials. (mode 1).
16107-N |  | DAHER-TLI | 49 CFR 173.420(a)(2)(i); 173.420(b) | To authorize the one time one way transportation in commerce of 14 heeled cylinders that are not ANSI N14.1 compliant. (mode 1).
16108-N |  | Carleton Technologies Inc., Westminster, MD | 49 CFR 173.302a, 173.304a and 180.205 | To authorize the manufacture, marking, sale and-use of carbon and glass fiber reinforced, aluminum-lined composite cylinders for use in transporting certain Division 2.1 and 2.2 hazardous materials. (modes 1, 2, 3, 4, 5).
16109-N |  | CST Enterprises, LLC dba Colibri Group, New York, NY | 49 CFR 173.304a(d)(3)(ii) | To authorize the transportation in commerce of certain non-DOT specification non-refillable inside containers similar to a DOT 2P containing certain Division 2.1 gases the hot water bath test and which are not fitted with a pressure relief device. (modes 1, 2, 3).
16111-N |  | Allen Institute for Brain Science, Seattle, WA | 49 CFR 173.24(b)(1) | To authorize the transportation in commerce of living human brain tissue continuously fed by oxidizing compressed gas. (mode 1).
16115-N |  | Advanced Cooling Technologies, Inc., Lancaster, PA | 49 CFR 173.301(f), 137.302(a)(1), 173.304(a)(2) | To authorize the transportation of anhydrous ammonia in alternative packaging (heat pipes). (modes 1, 3, 4).

[FR Doc. 2014-06864 Filed 3-28-14; 8:45 am]

BILLING CODE 4909-60-M